DEPARTMENT OF ENERGY

Federal Energy Regulatory Commission

[Docket Nos. RP93-5-038 and RP93-96-016]

Northwest Pipeline Corporation; Notice of Preliminary Surcharge Report

April 10, 2000.

Take notice that on April 3, 2000, Northwest Pipeline Corporation (Northwest) filed a Preliminary Surcharge Report (PSR) in connection with the Commission's order issued on February 11, 2000, in its Docket Nos. RP93-5 and RP93-96 general rate proceeding. Northwest states that the PSR covers the period from April 1, 1993, through October 31, 1994. Northwest further states that it has asked the Commission to accept the PSR as illustrative of final surcharges in the above mentioned dockets. Northwest anticipates filing a final surcharge report 30 days after the final payment is due under the surcharge plan options described in Northwest's April 3, 2000 Compliance Filing.

Any person desiring to protest this filing should file a protest with the Federal Energy Regulatory Commission, 888 First Street, NE, Washington, DC 20426, in accordance with Section 385.211 of the Commission's Rules and Regulations. All such protests must be filed on or before April 17, 2000. Protests will be considered by the Commission in determining the appropriate action to be taken, but will not service to make protestants parties to the proceedings. Copies of this filing are on file with the Commission and are available for public inspection in the Public Reference Room. This filing may be viewed on the web at http://www.ferc.fed.us/online./rims.htm (call 202-208-2222 for assistance).

David P. Boergers,
Secretary.

[FR Doc. 00-9305 Filed 4-13-00; 8:45 am]

BILLING CODE 6717-01-M